DEPARTMENT OF THE INTERIOR

National Park Service

[NPS-WASO-NAGPRA-NPS0035382; PPWOCRADN0-PCU00RP14.R50000]

Notice of Inventory Completion: University of Minnesota Twin Cities, Minneapolis MN; Minnesota Indian Affairs Council, St. Paul/Bemidji, MN; Science Museum of Minnesota, Saint Paul, MN; University of Colorado Museum (Boulder), Boulder, CO; Milwaukee Public Museum, Milwaukee, WI; Denver Art Museum, Denver, CO; Yale Peabody Museum, New Haven, CT; and Cleveland Museum of Art, Cleveland, OH

AGENCY: National Park Service, Interior.

ACTION: Notice.

SUMMARY: In accordance with the Native American Graves Protection and Repatriation Act (NAGPRA), the University of Minnesota Twin Cities (UMN); Minnesota Indian Affairs Council; Science Museum of Minnesota; University of Colorado Museum (Boulder); Milwaukee Public Museum; Denver Art Museum; Yale Peabody Museum; and Cleveland Museum of Art, hereafter the Collaborating Museums, have completed an inventory of human remains and associated funerary objects and have determined that there is a cultural affiliation between the human remains and associated funerary objects and Indian Tribes or Native Hawaiian organizations in this notice. The human remains and associated funerary objects were removed from Grant and Catron Counties, NM.

DATES: Repatriation of the human remains and associated funerary objects in this notice may occur on or after March 27, 2023.

ADDRESSES: Alejandra Peña Gutiérrez, Weisman Art Museum, University of Minnesota, 333 East River Road, Minneapolis, MN 55455, telephone (612) 624-5934, email apenagut@umn.edu.

SUPPLEMENTARY INFORMATION: This notice is published as part of the National Park Service's administrative responsibilities under NAGPRA. The determinations in this notice are the sole responsibility of the Collaborating Museums. The National Park Service is not responsible for the determinations in this notice. Additional information on the determinations in this notice, including the results of consultation, can be found in the inventory or related records held by the Collaborating Museums.

Description

Cameron Creek and Warm Springs: In 1928, human remains representing, at minimum, 58 individuals were removed from Grant County, NM, by University of Minnesota professor Albert Jenks. Jenks secured funding from the Minneapolis Institute of the Arts to sponsor his participation, along with four students, in an excavation organized jointly by the School for American Research (today the School for Advanced Research), the Santa Fe Museum (today the Museum of Indian Arts and Culture), and the University of New Mexico under the direction of Wesley Bradford. Jenks and his students stayed in New Mexico from June through September of that year, and at the conclusion of the season the excavated human remains and funerary objects were divided among the participating institutions. In some cases, human remains and associated funerary objects were separated from each other. Initially, these human remains were sent to the University of Minnesota. Between 1989 and 1997, they were transferred to the Minnesota Indian Affairs Council in accordance with Minnesota Statute 307.08. These human remains belong to 31 adults, two adolescents, 17 children, seven infants, and one individual of indeterminate age. No known individuals were identified. At the conclusion of the 1928 field season, some of the funerary objects associated with these individuals were brought to the Santa Fe Museum (Museum of Indian Arts and Culture), while most of them were sent to the Minneapolis Institute of the Arts. In 1959, the associated funerary objects at the Minneapolis Institute of the Arts were transferred to the University of Minnesota Department of Anthropology. Subsequently, most of these associated funerary objects were transferred to other institutions, including the Science Museum of Minnesota (in 1962), the Milwaukee Public Museum (in 1964), the University of Colorado Boulder Natural History Museum (in 1970), the Denver Art Museum (in 1972), and the Cleveland Art Museum, and in 1992, the remainder was transferred internally to the Weisman Art Museum at the University of Minnesota. In total, across the Collaborating Museums, there are 571 associated funerary objects, of which four are currently missing. The 567 locatable associated funerary objects are one carved jade pendant, 92 stone tools or other items, two carved shell or stone items, 43 shell items, one shell pendant, 16 bead lots, seven turquoise item lots, 45 bone tools or other items, 187 ceramic vessels, one non-vessel ceramic item, 167 ceramic sherds or sherd lots, four organic items including charcoal, and one adobe lot. The Collaborating Museums continue to look for the missing four associated funerary objects, which are two pottery vessels and two turquoise pendants.

Galaz Ruin: Between 1929 and 1931, human remains representing, at minimum, 115 individuals were removed from the Galaz Ruin site in Grant County, NM, by University of Minnesota professor Albert Jenks and a team of students. Although documentary evidence indicates that all the excavated funerary items were sent to the University of Minnesota, a much larger number of excavated human burials was documented than the 115 interred individuals transferred to the University of Minnesota. Between 1989 and 1997, the human remains of these 115 individuals were transferred from the University of Minnesota to the Minnesota Indian Affairs Council in accordance with Minnesota Statute 307.08. Most of the associated funerary objects were transferred to other institutions, including the Science Museum of Minnesota (in 1959 and 1962) and the Yale Peabody Museum (in 1955). In 1992, the remaining associated funerary objects were transferred internally to the Weisman Art Museum at the University of Minnesota. The human remains belong to 77 adults, three adolescents, 29 children, five infants, and one individual of indeterminate age. No known individuals were identified. Across the Collaborating Museums, there are 3,236 associated funerary objects, 46 of which are currently missing. The 3,190 locatable associated funerary objects are 1,009 ceramic vessels, 23 ceramic non-vessel items, 783 ceramic sherds or sherd lots, three copper bell fragments, 51 bead lots, 733 stone tools or other items, 16 stone vessels, four lots of faunal material, 205 shell items, 51 turquoise items or lots, 260 bone tools or other items, 17 horn items, 13 mineral samples or objects, 20 unidentified organic items, and two unidentified residue samples. The Collaborating Museums continue to look for the missing 46 associated funerary objects, which are 34 pottery vessels, four bead lots, four shell adornments, one stone pendant, one stone axe, one stone palette, and one projectile point. Among this number are pottery vessels known to have been traded to Bernard Brown, a private collector, in 1966, and later to George Terasaki.

Hudson Ranch site: In 1930, human remains representing, at minimum, 21 individuals were removed from the Hudson Ranch site in Catron County, NM, by University of Minnesota archeologists led by Lloyd Wilford. These human remains and associated funerary objects were sent to the University of Minnesota Department of Anthropology. Between 1989 and 1997, these human remains were transferred from the University of Minnesota to the Minnesota Indian Affairs Council in accordance with Minnesota Statute 307.08, and in 1992, the associated funerary objects were transferred internally to the Weisman Art Museum. The human remains belong to eight adults, four adolescents, three children, five infants, and one perinatal individual. No known individuals were identified. Of a total of 378 associated funerary objects, 14 are currently missing. The 364 locatable associated funerary objects are 169 ceramic vessels, one ceramic non-vessel item, 50 ceramic sherds or sherd lots, 46 stone tools or other item lots, 14 shell items, one shell pendant with beads, one turquoise item, three bead lots, 69 bone tools or other items, two horn tools, four lots of faunal material, two unidentified organic items, one soil sample, and one ceramic vessel from either the Hudson Ranch site or the Galaz site with incomplete documentation. The Weisman Art Museum continues to look for the missing 14 associated funerary objects, which are pottery vessels.

Faywood Hot Springs: In 1931, University of Minnesota archeologists excavated at the Faywood Hot Springs site in Grant County, NM (referred to in field records as “Mimbres Hot Springs”). The associated funerary objects were removed and sent to the University of Minnesota Anthropology Department, and in 1992, they were transferred internally to the Weisman Art Museum. Of a total of 25 associated funerary objects, three are currently missing. The 22 locatable associated funerary are 11 ceramic vessels, two ceramic sherds or sherd lots, one stone vessel, one stone tool or other item, two shell items, one bead lot, one turquoise item, and three bone tools. The Weisman Art Museum continues to look for the missing three associated funerary objects, which are one bone tool and two stone tools.

Unknown sites: Between 1928 and 1931, human remains representing, at minimum, four individuals were removed by University of Minnesota archeologists from undocumented sites (possibly Cameron Creek, Warm Springs, Galaz, Hudson Ranch, Faywood Hot Springs, Pruitt Ranch, or other) in Grant and/or Catron County, NM. The human remains were sent to the Anthropology department at the University of Minnesota. Between 1989 and 1997, they were transferred from the University of Minnesota to the Minnesota Indian Affairs Council in accordance with Minnesota Statute 307.08. These human remains belong to one child, one infant, and two individuals of indeterminate age. No known individuals were identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, linguistic, oral traditional, and expert opinion.

Determinations

Pursuant to NAGPRA and its implementing regulations, and after consultation with the appropriate Indian Tribes and Native Hawaiian organizations, the Collaborating Museums have determined that:

• The human remains described in this notice represent the physical remains of 198 individuals of Native American ancestry.

• The 4,210 objects described in this notice are reasonably believed to have been placed with or near individual human remains at the time of death or later as part of the death rite or ceremony.

• There is a relationship of shared group identity that can be reasonably traced between the human remains and associated funerary objects described in this notice and the Hopi Tribe of Arizona; Mescalero Apache Tribe of the Mescalero Reservation, New Mexico; Okhay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2023. If competing requests for repatriation are received, the Collaborating Museums must determine the most appropriate requestor prior to repatriation. Requests for joint repatriation of the human remains and associated funerary objects are considered a single request and not competing requests. The Collaborating Museums are responsible for sending a copy of this notice to the Indian Tribes identified in this notice.

Authority: Native American Graves Protection and Repatriation Act, 25 U.S.C. 3003, and the implementing regulations, 43 CFR 10.9, § 10.10, and § 10.14.

Dated: February 15, 2023.
Melanie O'Brien,
Manager, National NAGPRA Program.

[FR Doc. 2023-03812 Filed 2-23-23; 8:45 am]

BILLING CODE 4312-52-P